DEPARTMENT OF TRANSPORTATION

Surface Transportation Board

[STB Finance Docket No. 34028]

BQ Railroad Company—Acquisition and Operation Exemption—Certain Lines of The Burlington Northern and Santa Fe Railway Company

BQ Railroad Company (BQRR), a noncarrier,¹ has filed a notice of exemption under 49 CFR 1150.31 to acquire (by purchase) The Burlington Northern and Santa Fe Railway Company's (BNSF) interests in, and to operate, approximately 1.64 miles of rail line between milepost 8.0 and milepost 9.64 at Rogers, in Barnes County, ND, with a retention of trackage rights by BNSF over the entire line, including the right to serve customers on the line. BQRR certifies that its projected revenues will not exceed those that would qualify it as a Class III rail carrier.

¹ BQRR is a wholly owned subsidiary of Benson-Quinn Company (B-Q). B Q has entered into an agreement with BNSF to purchase BNSF's interests in the above-described rail line. B-Q has assigned its rights and obligations under the agreement to BQRR to be the common carrier operator of the rail line. BQRR states that it may enter into an agreement with B-Q to allow a portion of the trackage to be used for industrial switching when doing so does not interfere with common carrier operations.

The transaction was scheduled to be consummated on or shortly after April 6, 2001, the effective date of the exemption (7 days after the exemption was filed).

This transaction is related to STB Finance Docket No. 34029, Archer-Daniels-Midland Company—Control Exemption—BQ Railroad Company and Iowa Interstate Railroads, Ltd., wherein Archer-Daniels-Midland Company is seeking an exemption to continue in control of BQRR upon its becoming a Class III rail carrier.

If the notice contains false or misleading information, the exemption is void ab initio. Petitions to revoke the exemption under 49 U.S.C. 10502(d) may be filed at any time. The filing of a petition to revoke does not automatically stay the transaction.

An original and 10 copies of all pleadings, referring to STB Finance Docket No. 34028, must be filed with the Surface Transportation Board, Office of the Secretary, Case Control Unit, 1925 K Street, NW., Washington, DC 20423-0001. In addition, one copy of each pleading must be served on Andrew P. Goldstein, McCarthy, Sweeney & Harkaway, P.C., Suite 600, 2175 K Street, NW., Washington, DC 20037.

Board decisions and notices are available on our website at “WWW.STB.DOT.GOV.”

By the Board, David M. Konschnik, Director, Office of Proceedings.
Decided: April 12, 2001.
Vernon A. Williams,
Secretary.

[FR Doc. 01-9587 Filed 4-18-01; 8:45 am]

BILLING CODE 4915-00-P